DEPARTMENT OF TRANSPORTATION

Federal Railroad Administration

Petition for Waiver of Compliance

In accordance with Part 211 of Title 49 Code of Federal Regulations (CFR), notice is hereby given that the Federal Railroad Administration (FRA) has received a request for a waiver of compliance with certain requirements of its safety standards. The individual petition is described below, including the party seeking relief, the regulatory provisions involved, the nature of the relief being requested, and the petitioner's arguments in favor of relief.

The South Carolina Railroad Museum, Inc.

[Docket Number FRA-2006-25452]

The South Carolina Railroad Museum, Inc. (SCMZ) seeks a permanent waiver of compliance from Control of Alcohol and Drug Use, 49 CFR Part 219 Subparts D through J, which require a railroad to conduct reasonable suspicion alcohol and/or drug testing, pre-employment drug testing, random alcohol and drug testing, and to have voluntary referral and co-worker report policies, and which also specify drug and alcohol testing procedures and recordkeeping requirements. The railroad is a nonprofit railroad museum located near Winnsboro, South Carolina. As part of its museum activity, it operates excursion passenger trains, primarily on certain weekends and on special charters.

The museum only runs scheduled excursion trains on 15 days in the calendar year. On those days, it runs four trains over the 10.2-mile round trip. In addition to the regularly scheduled operating days, it runs excursion trains on a charter basis. In 2005, SCMZ operated charters on 26 days. In each case, only one train was operated on the respective charter.

A portion (4,650 feet) of the museums's track is subject to a recent Lead Track Agreement between the museum and Norfolk Southern Corporation (NS), whereby NS will provide limited rail service to a commercial facility located along the museum's track. This service will not involve SCMZ volunteers but will be conducted entirely by NS employees.

The waiver would cover the museum's operation of excursion trains on the museum's trackage between Rockton, South Carolina, and Rion, South Carolina (approximately 5.1 miles). SCMZ has hours of service volunteers only.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2006-25452) and must be submitted to the Docket Clerk, DOT Central Docket Management Facility, Room PL-401, 400 7th Street, SW., Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

Issued in Washington, DC on September 20, 2006.
Grady C. Cothen, Jr.,
Deputy Associate Administrator for Safety Standards and Program Development.

[FR Doc. E6-15753 Filed 9-25-06; 8:45 am]

BILLING CODE 4910-06-P